DEPARTMENT OF AGRICULTURE

Forest Service

North Gifford Pinchot National Forest Resource Advisory Committee Meeting Notice

AGENCY: Forest Service, USDA.

ACTION: Notice of meeting.

SUMMARY: The North Gifford Pinchot National Forest Resource Advisory Committee will meet on Monday, July 29, 2002 at the City of Morton Community Center, 700 West Main, Morton, Washington. The meeting will begin at 9 a.m. and continue until 5 p.m. The purpose of the meeting is to:

(1) Review and recommend for funding Title II projects for fiscal year 2003.

(2) Provide for a Public Open Forum.

All North Gifford Pinchot National Forest Resource Advisory Committee meetings are open to the public. Interested citizens are encouraged to attend. The “open forum” provides an opportunity for the public to bring issues, concerns, and discussion topics to the Advisory Committee. The “open forum” is scheduled as part of agenda item (2) for this meeting. Interested speakers will need to register prior to the open forum period. The committee welcomes the public's written comments on committee business at any time.

FOR FURTHER INFORMATION CONTACT: Direct questions regarding this meeting to Tom Knappenberger, Public Affairs Officer, at (360) 891-5005, or write Forest Headquarters Office, Gifford Pinchot National Forest, 10600 NE 51st Circle, Vancouver, WA 98682.

Dated: July 12, 2002.
Claire Lavendel,
Forest Supervisor.

[FR Doc. 02-18106 Filed 7-17-02; 8:45 am]

BILLING CODE 3410-11-M